ENVIRONMENTAL PROTECTION AGENCY

40 CFR Part 52

[EPA-R10-OAR-2014-0141; FRL-9917-10-Region-10]

Approval and Promulgation of Implementation Plans; Washington: General Regulations for Air Pollution Sources

AGENCY: Environmental Protection Agency.

ACTION: Final rule.

SUMMARY: The Environmental Protection Agency (EPA) is approving revisions to the Washington State Implementation Plan (SIP) submitted by the Department of Ecology (Ecology) on January 27, 2014. These revisions were submitted in accordance with the requirements of section 110 of the Clean Air Act, which requires states to develop a plan for the implementation, maintenance, and enforcement of the National Ambient Air Quality Standards (NAAQS). The revisions update the general air quality regulations that apply to sources within Ecology's jurisdiction, except for major source specific provisions which the EPA is addressing separately.

DATES: This final rule is effective on November 3, 2014.

ADDRESSES: The EPA has established a docket for this action under Docket ID No. EPA-R10-OAR-2014-0141. All documents in the docket are listed on the www.regulations.gov Web site. Although listed in the index, some information is not publicly available, e.g., Confidential Business Information (CBI) or other information the disclosure of which is restricted by statute. Certain other material, such as copyrighted material, is not placed on the Internet and will be publicly available only in hard copy form. Publicly available docket materials are available either electronically through www.regulations.gov or in hard copy at the Air Programs Unit, Office of Air Waste and Toxics, EPA Region 10, 1200 Sixth Avenue, Seattle, WA, 98101. The EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: For information on the New Source Review permitting program, please contact Donna Deneen at (206) 553-6706 or deneen.donna@epa.gov. For information on the Washington SIP in general, please contact Jeff Hunt at (206) 553-0256, hunt.jeff@epa.gov, or by using the above EPA, Region 10 address.

SUPPLEMENTARY INFORMATION:

Definitions

For the purpose of this document, we are giving meaning to certain words or initials as follows:

(i) The words or initials “Act” or “CAA” mean or refer to the Clean Air Act, unless the context indicates otherwise.

(ii) The words “EPA”, “we”, “us” or “our” mean or refer to the United States Environmental Protection Agency.

(iii) The initials “SIP” mean or refer to State Implementation Plan.

(iv) The words “Washington” and “State” mean the State of Washington.

Table of Contents

I. Background Information

II. Response to Comments

III. Final Action

IV. Statutory and Executive Orders Review

I. Background Information

Title I of the CAA, as amended by Congress in 1990, specifies the general requirements for states to submit SIPs to attain or maintain the NAAQS and the EPA's actions regarding approval of those SIPs. On January 27, 2014, Ecology submitted updates to portions of Chapter 173-400 of the Washington Administrative Code (WAC) currently in the Federally-approved Washington SIP (40 CFR part 52, subpart WW). Ecology did not submit to the EPA those sections of Chapter 173-400 WAC that have not changed since the last SIP approval by the EPA. Ecology also did not submit certain provisions of Chapter 173-400 WAC because they are not related to the criteria pollutants regulated under title I of the CAA, not essential for meeting and maintaining the NAAQS, or not related to the requirements for SIPs under section 110 of the CAA. The SIP revisions covered by this action are explained in more detail in the proposed rulemaking, along with an evaluation of how these rules comply with the CAA requirements for SIPs (79 FR 39351, July 10, 2014). Also included in the proposed rulemaking is a discussion of how the EPA intends to act on the remainder of Ecology's submittal, covering the Prevention of Significant Deterioration (PSD), Nonattainment New Source Review (NNSR), and visibility permitting programs for major sources. See also the EPA's proposed rulemaking on the NNSR-specific provisions (79 FR 43345, July 25, 2014).

II. Response to Comments

The EPA received one set of comments on its proposal.

Comment: The commenter pointed to another rulemaking action in which Ecology stated that a notice of construction (NOC) ¹ approval order issued under WAC 173-400-113(1) does not need to include conditions requiring compliance with federal New Source Performance Standards (NSPS) or National Emissions Standards for Hazardous Air Pollutants (NESHAP), but that WAC 173-400-113(1) instead only requires that Ecology determine, prior to issuance of an NOC approval order, that the new or modified source in an attainment area will comply with the NSPS and NESHAP. The commenter states that the EPA's approval of WAC 173-400-113(1) into the Washington SIP therefore would “give a green light” to a regulation that allows Ecology to omit conditions in orders that would require compliance with applicable NSPS and NESHAP. The commenter further states that, because conditions in orders issued under WAC 173-400 are applicable requirements under Ecology's title V operating permit program, Ecology's actions taken under WAC 173-400 directly impact Ecology's implementation of the CAA title V program in Washington. The commenter also raises concerns with Ecology's implementation of requirements under section 112 of the CAA, which addresses hazardous air pollutants (HAPs). The commenter states that the EPA's approval of WAC 173-400-113(1) as part of the Washington SIP would add EPA concurrence to Ecology's ability to remove a HAP (in particular, radionuclides) from section 112 of the CAA and thereby to remove all federally-enforceable requirements controlling emissions of that particular HAP from regulation under title V of the CAA in Washington. The commenter also questions whether the EPA has authority to make enforceable under federal law a provision in a state regulation giving Ecology the ability to omit applicable NSPS and NESHAPs requirements from an NOC approval order and the ability to move enforcement of federal requirements regulating a HAP from the CAA to a state regulation that is both unenforceable under federal law and unenforceable by Ecology.

¹ Washington's air permitting program uses the terms “Notice of Construction approval order” or “NOC approval order,” which are more commonly referred to as construction permits in other states and as new source review permits under the CAA.

Response: The EPA disagrees that Ecology's SIP is deficient if new source review permits issued under the SIP do not include NSPS or NESHAP requirements. In this action, the EPA is approving WAC 173-400-113(1) for purposes of implementing the requirements of Section 110 of the CAA, particularly, the minor new source review requirements of CAA Section 110(a)(2)(C) and 40 CFR 51.160. Neither that CAA section nor that CFR provision require minor new source review permits to contain NSPS and NESHAPs requirements. Indeed, this action does not address the WAC provisions associated with implementation of sections 111 and 112. Washington has not submitted for inclusion into the SIP and the EPA has not approved into the SIP WAC 173-400-115, in which Ecology has incorporated by reference most of the NSPS as a matter of state law, or WAC 173-400-075, in which Ecology has incorporated by reference most of the NESHAP as a matter of state law. In this action, EPA is approving a state law provision related to implementation of CAA section 110. Section 110 focuses on implementation of the NAAQS. The NSPS and NESHAP are promulgated under other sections of the CAA (CAA sections 111 and 112, respectively), and any state programs implementing the NSPS and NESHAP for CAA purposes are submitted and approved by EPA under those other statutory authorities. To the extent the comment raises questions regarding the adequacy of Ecology's title V, NSPS, or NEHSAP programs under the CAA, those issues are outside the scope of this rulemaking, which relates solely to whether the regulations submitted by Ecology meet the requirements for approval into the SIP under section 110 of the CAA. The EPA notes, with limited exceptions not relevant here, that the NSPS and NESHAP standards are federally enforceable against affected sources under the CAA independently of whether such standards have been adopted by a state as a matter of state law. In addition, they are also “applicable requirements” for purposes of the title V program, 40 CFR 70.2, and as such a title V permit must contain emission limitations and standards that assure compliance with any such applicable requirements at the time of permit issuance, 40 CFR 70.6(a).

III. Final Action

The EPA is approving into the SIP at 40 CFR part 52, subpart WW, the Ecology regulations listed in Table 1. It is important to note that Ecology did not submit for approval into the SIP certain provisions of Chapter 173-400 WAC, generally because they are not related to the criteria pollutants regulated under title I of the CAA, are not essential for meeting and maintaining the NAAQS, or are not related to the requirements for SIPs under section 110 of the CAA. These exceptions are noted in the “Explanation” column of the table. The EPA's review and approval of the revised WAC 173-400-110 through -113, 173-400-036, 173-400-171, and 173-400-560 in this action is not a determination that these revised regulations meet requirements for major sources such as a SIP-approved PSD permitting program (40 CFR 51.166), a SIP-approved major NNSR permitting program (40 CFR 51.165), or a SIP-approved visibility program (40 CFR 51.307). These regulations are marked with asterisks in Table 1. The EPA will evaluate these regulations for consistency with the requirements for major NSR permitting programs and visibility in a separate action.

As discussed in the proposed rulemaking for this action, with respect to WAC 173-400-020, Applicability, the EPA's approval for this action is limited to only those counties or sources where the Department of Ecology has direct jurisdiction. This action excludes sources subject to Energy Facilities Site Evaluation Council (EFSEC) or local clean air agency jurisdiction. The counties where Ecology has direct jurisdiction are: Adams, Asotin, Chelan, Columbia, Douglas, Ferry, Franklin, Garfield, Grant, Kittitas, Klickitat, Lincoln, Okanogan, Pend Oreille, San Juan, Stevens, Walla Walla, and Whitman. The EPA also notes that under the SIP-approved provisions of WAC 173-405-012, WAC 173-410-012, and WAC 173-415-012, Ecology has direct, statewide jurisdiction for kraft pulping mills, sulfite pulping mills, and primary aluminum plants. The EPA is updating 40 CFR part 52, subpart WW to reflect these changes.

Table 1—Approved Washington State Department of Ecology Regulations
State citation | Title/subject | State effective date | Explanation
Chapter 173-400 WAC, General Regulations for Air Pollution Sources
173-400-020 | Applicability | 12/29/12 |
173-400-030 | Definitions | 12/29/12 | Except: 173-400-030(91).
173-400-036 * | Relocation of Portable Sources | 12/29/12 |
173-400-040 | General Standards for Maximum Emissions | 4/1/11 | Except:
|  |  | 173-400-040(2)(c);
|  |  | 173-400-040(2)(d);
|  |  | 173-400-040(3);
|  |  | 173-400-040(5);
|  |  | 173-400-040(7), second paragraph.
173-400-050 | Emission Standards for Combustion and Incineration Units | 12/29/12 | Except: 173-400-050(4); 173-400-050(5).
173-400-060 | Emission Standards for General Process Units | 2/10/05 |
173-400-070 | Emission Standards for Certain Source Categories | 12/29/12 | Except: 173-400-070(7); 173-400-070(8).
173-400-081 | Startup and Shutdown | 4/1/11 |
173-400-091 | Voluntary Limits on Emissions | 4/1/11 |
173-400-105 | Records, Monitoring, and Reporting | 12/29/12
173-400-110 * | New Source Review (NSR) for Sources and Portable Sources | 12/29/12 | Except:
|  |  | 173-400-110(1)(c)(ii)(C);
|  |  | 173-400-110(1)(e);
|  |  | 173-400-110(2)(d);
|  |  | The part of WAC 173-400-110(4)(b)(vi) that says,
|  |  | • “not for use with materials containing toxic air pollutants, as listed in chapter 173-460 WAC,”;
|  |  | The part of 400-110 (4)(e)(iii) that says,
|  |  | • “where toxic air pollutants as defined in chapter 173-460 WAC are not emitted”;
|  |  | The part of 400-110(4)(e)(f)(i) that says,
|  |  | • “that are not toxic air pollutants listed in chapter 173-460 WAC”;
|  |  | The part of 400-110 (4)(h)(xviii) that says,
|  |  | • “, to the extent that toxic air pollutant gases as defined in chapter 173-460 WAC are not emitted”;
|  |  | The part of 400-110 (4)(h)(xxxiii) that says,
|  |  | • “where no toxic air pollutants as listed under chapter 173-460 WAC are emitted”;
|  |  | The part of 400-110(4)(h)(xxxiv) that says,
|  |  | • “, or ≤ 1% (by weight) toxic air pollutants as listed in chapter 173-460 WAC”;
|  |  | The part of 400-110(4)(h)(xxxv) that says,
|  |  | • “or ≤ 1% (by weight) toxic air pollutants”;
|  |  | The part of 400-110(4)(h)(xxxvi) that says,
|  |  | • “or ≤ 1% (by weight) toxic air pollutants as listed in chapter 173-460 WAC”;
|  |  | 400-110(4)(h)(xl) , second sentence; The last row of the table in 173-400-110(5)(b) regarding exemption levels for Toxic Air Pollutants.
173-400-111 * | Processing Notice of Construction Applications for Sources, Stationary Sources and Portable Sources | 12/29/12 | Except: 173-400-111(3)(h); 173-400-111(3)(i);
|  |  | The part of 173-400-111(8)(a)(v) that says, • “and 173-460-040,”; 173-400-111(9).
173-400-112 * | Requirements for New Sources in Nonattainment Areas—Review for Compliance with Regulations | 12/29/12 | Except: 173-400-112(8).
173-400-113 * | New Sources in Attainment or Unclassifiable Areas—Review for Compliance with Regulations | 12/29/12 | Except: 173-400-113(3), second sentence.
173-400-118 | Designation of Class I, II, and III Areas | 12/29/12 |
173-400-151 | Retrofit Requirements for Visibility Protection | 2/10/05 |
173-400-171 * | Public Notice and Opportunity for Public Comment | 12/29/12 | Except: The part of 173-400-171(3)(b) that says,
|  |  | • “or any increase in emissions of a toxic air pollutant above the acceptable source impact level for that toxic air pollutant as regulated under chapter 173-460 WAC”;
|  |  | 173-400-171(12).
173-400-175 | Public Information | 2/10/05 |
173-400-200 | Creditable Stack Height and Dispersion Techniques | 2/10/05 |
173-400-560 * | General Order of Approval | 12/29/12 | Except:
|  |  | The part of 173-400-560(1)(f) that says, • “173-460 WAC”.

IV. Statutory and Executive Orders Review

Under the CAA, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications as specified by Executive Order 13175 (65 FR 67249, November 9, 2000), nor will it impose substantial direct costs on tribal governments or preempt tribal law. Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area. Consistent with EPA policy, the EPA nonetheless provided a consultation opportunity to the Puyallup Tribe in a letter dated February 25, 2014. The EPA did not receive a request for consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 2, 2014. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 16, 2014.
Michelle L. Pirzadeh,
Acting Regional Administrator, Region 10.

For the reasons set forth in the preamble, 40 CFR part 52 is amended as follows:

PART 52—APPROVAL AND PROMULGATION OF IMPLEMENTATION PLANS

1. The authority citation for Part 52 continues to read as follows:

Authority: 42 U.S.C. 7401 et seq.

Subpart WW—Washington

2. Section 52.2470 is amended by revising paragraph (c) to read as follows:

§ 52.2470 Identification of plan.

* * * * *

(c) EPA approved regulations.

Table 1—Regulations Approved Statewide
State citation | Title/subject | State effective date | EPA approval date | Explanations
Washington Administrative Code, Chapter 173-405—Kraft Pulping Mills
173-405-012 | Statement of Purpose | 3/22/91 | 1/15/93, 58 FR 4578
173-405-021 | Definitions | 3/22/91 | 1/15/93, 58 FR 4578
173-405-040 | Emissions Standards | 3/22/91 | 1/15/93, 58 FR 4578 | except for sections (1)(b), (1)(c), (3)(b), (3)(c), (4), (7), (8) & (9)
173-405-045 | Creditable Stack Height & Dispersion Techniques | 3/22/91 | 1/15/93, 58 FR 4578
173-405-061 | More Restrictive Emission Standards | 3/22/91 | 1/15/93, 58 FR 4578
173-405-072 | Monitoring Requirements | 3/22/91 | 1/15/93, 58 FR 4578 | except section (2)
173-405-077 | Report of Startup, Shutdown, Breakdown or Upset Conditions | 3/22/91 | 1/15/93, 58 FR 4578
173-405-078 | Emission Inventory | 3/22/91 | 1/15/93, 58 FR 4578
173-405-086 | New Source Review (NSR) | 3/22/91 | 1/15/93, 58 FR 4578
173-405-087 | Prevention of Significant Deterioration (PSD) | 3/22/91 | 1/15/93, 58 FR 4578
173-405-091 | Special Studies | 3/22/91 | 1/15/93, 58 FR 4578
Washington Administrative Code, Chapter 173-410—Sulfite Pulping Mills
173-410-012 | Statement of Purpose | 3/22/91 | 1/15/93, 58 FR 4578
173-410-021 | Definitions | 3/22/91 | 1/15/93, 58 FR 4578
173-410-040 | Emissions Standards | 3/22/91 | 1/15/93, 58 FR 4578 | except the exception provision in (3) & section (5)
173-410-045 | Creditable Stack Height & Dispersion Techniques | 3/22/91 | 1/15/93, 58 FR 4578
173-410-062 | Monitoring Requirements | 3/22/91 | 1/15/93, 58 FR 4578
173-410-067 | Report of Startup, Shutdown, Breakdown or Upset Conditions | 3/22/91 | 1/15/93, 58 FR 4578
173-410-071 | Emission Inventory | 3/22/91 | 1/15/93, 58 FR 4578
173-410-086 | New Source Review (NSR) | 3/22/91 | 1/15/93, 58 FR 4578
173-410-087 | Prevention of Significant Deterioration (PSD) | 3/22/91 | 1/15/93, 58 FR 4578
173-410-100 | Special Studies | 3/22/91 | 1/15/93, 58 FR 4578
Washington Administrative Code, Chapter 173-415—Primary Aluminum Plants
173-415-010 | Statement of Purpose | 3/22/91 | 1/15/93, 58 FR 4578
173-415-020 | Definitions | 3/22/91 | 1/15/93, 58 FR 4578 | except sections (1) & (2)
173-415-030 | Emissions Standards | 3/22/91 | 1/15/93, 58 FR 4578 | except sections (1) & (3)(b)
173-415-045 | Creditable Stack Height & Dispersion Techniques | 3/22/91 | 1/15/93, 58 FR 4578
173-415-050 | New Source Review (NSR) | 3/22/91 | 1/15/93, 58 FR 4578
173-415-051 | Prevention of Significant Deterioration (PSD) | 3/22/91 | 1/15/93, 58 FR 4578
173-415-060 | Monitoring and Reporting | 3/22/91 | 1/15/93, 58 FR 4578 | except sections (1)(a), (b), & (d)
173-415-070 | Report of Startup, Shutdown, Breakdown or Upset Conditions | 3/22/91 | 1/15/93, 58 FR 4578
173-415-080 | Emission Inventory | 3/22/91 | 1/15/93, 58 FR 4578
Washington Administrative Code, Chapter 173-422—Motor Vehicle Emission Inspection
173-422-010 | Purpose | 6/3/93 | 9/25/96, 61 FR 50235
173-422-020 | Definitions | 3/31/95 | 9/25/96, 61 FR 50235
173-422-030 | Vehicle Emission Inspection Requirement | 11/9/96 | 5/19/97, 62 FR 27204
173-422-031 | Vehicle Emission Inspection Schedules | 12/2/00 | 5/12/05, 70 FR 24491
173-422-035 | Registration Requirements | 3/31/95 | 9/25/96, 61 FR 50235
173-422-040 | Noncompliance Areas | 6/3/93 | 9/25/96, 61 FR 50235
173-422-050 | Emission Contributing Areas | 11/9/96 | 5/19/97, 62 FR 27204
173-422-060 | Gasoline Vehicle Emission Standards | 11/9/96 | 5/19/97, 62 FR 27204
173-422-065 | Diesel Vehicle Exhaust Emission Standards | 3/31/95 | 9/25/96, 61 FR 50235
173-422-070 | Gasoline Vehicle Exhaust Emission Testing Procedures | 11/9/96 | 5/19/97, 62 FR 27204
173-422-075 | Diesel Vehicle Inspection Procedure | 3/11/94 | 9/25/96, 61 FR 50235
173-422-090 | Exhaust Gas Analyzer Specifications | 3/31/95 | 9/25/96, 61 FR 50235
173-422-095 | Exhaust Opacity Testing Equipment | 3/11/94 | 9/25/96, 61 FR 50235
173-422-100 | Testing Equipment Maintenance and Calibration | 3/31/95 | 9/25/96, 61 FR 50235
173-422-120 | Quality Assurance | 3/31/95 | 9/25/96, 61 FR 50235
173-422-130 | Inspection Fees | 3/11/94 | 9/25/96, 61 FR 50235
173-422-145 | Fraudulent Certificates of Compliance/Acceptance | 4/6/90 | 9/25/96, 61 FR 50235
173-422-160 | Fleet and Diesel Owner Vehicle Testing Requirements | 3/31/95 | 9/25/96, 61 FR 50235
173-422-170 | Exemptions | 12/2/00 | 5/12/05, 70 FR 24491
173-422-175 | Fraudulent Exemptions | 1/2/84 | 9/25/96, 61 FR 50235
173-422-190 | Emission Specialist Authorization | 11/9/96 | 5/19/97, 62 FR 27204
173-422-195 | Listing of Authorized Emission Specialists | 3/31/95 | 9/25/96, 61 FR 50235
Washington Administrative Code, Chapter 173-425—Open Burning
173-425-010 | Purpose | 10/18/90 | 1/15/93, 58 FR 4578
173-425-020 | Applicability | 10/18/90 | 1/15/93, 58 FR 4578
173-425-030 | Definitions | 10/18/90 | 1/15/93, 58 FR 4578
173-425-036 | Curtailment During Episodes or Impaired Air Quality | 10/18/90 | 1/15/93, 58 FR 4578
173-425-045 | Prohibited Materials | 1/3/89 | 1/15/93, 58 FR 4578
173-425-055 | Exceptions | 10/18/90 | 1/15/93, 58 FR 4578
173-425-065 | Residential Open Burning | 10/18/90 | 1/15/93, 58 FR 4578
173-425-075 | Commercial Open Burning | 10/18/90 | 1/15/93, 58 FR 4578
173-425-085 | Agricultural Open Burning | 10/18/90 | 1/15/93, 58 FR 4578
173-425-095 | No Burn Area Designation | 10/18/90 | 1/15/93, 58 FR 4578
173-425-100 | Delegation of Agricultural Open Burning Program | 10/18/90 | 1/15/93, 58 FR 4578
173-425-115 | Land Clearing Projects | 10/18/90 | 1/15/93, 58 FR 4578
173-425-120 | Department of Natural Resources Smoke Management Plan | 10/18/90 | 1/15/93, 58 FR 4578
173-425-130 | Notice of Violation | 10/18/90 | 1/15/93, 58 FR 4578
173-425-140 | Remedies | 10/18/90 | 1/15/93, 58 FR 4578
Washington Administrative Code, Chapter 173-430—Burning of Field and Forage and Turf Grasses Grown for Seed Open Burning
173-430-010 | Purpose | 10/18/90 | 1/15/93, 58 FR 4578
173-430-020 | Definitions | 10/18/90 | 1/15/93, 58 FR 4578
173-430-030 | Permits, Conditions, and Restrictions | 10/18/90 | 1/15/93, 58 FR 4578
173-430-040 | Mobile Field Burners | 10/18/90 | 1/15/93, 58 FR 4578
173-430-050 | Other Approvals | 10/18/90 | 1/15/93, 58 FR 4578
173-430-060 | Study of Alternatives | 10/18/90 | 1/15/93, 58 FR 4578
173-430-070 | Fees | 10/18/90 | 1/15/93, 58 FR 4578
173-430-080 | Certification of Alternatives | 10/18/90 | 1/15/93, 58 FR 4578
Washington Administrative Code, Chapter 173-433—Solid Fuel Burning Device Standards
173-433-010 | Purpose | 2/23/14 | 5/9/14, 79 FR 26628
173-433-020 | Applicability | 12/16/87 | 1/15/93, 58 FR 4578
173-433-030 | Definitions | 2/23/14 | 5/9/14, 79 FR 26628
173-433-100 | Emission Performance Standards | 2/23/14 | 5/9/14, 79 FR 26628
173-433-110 | Opacity Standards | 2/23/14 | 5/9/14, 79 FR 26628
173-433-120 | Prohibited Fuel Types | 2/23/14 | 5/9/14, 79 FR 26628
173-433-130 | General Emission Standards | 10/18/90 | 1/15/93, 58 FR 4578
173-433-140 | Criteria for Impaired Air Quality Burn Bans | 2/23/14 | 5/9/14, 79 FR 26628
173-433-150 | Restrictions on Operation of Solid Fuel Burning Devices | 2/23/14 | 5/9/14, 79 FR 26628
173-433-155 | Criteria for Prohibiting Solid Fuel Burning Devices That Are Not Certified | 2/23/14 | 5/9/14, 79 FR 26628
Washington Administrative Code, Chapter 173-434—Solid Waste Incinerator Facilities
173-434-010 | Purpose | 10/18/90 | 1/15/93, 58 FR 4578
173-434-020 | Applicability and Compliance | 1/22/04 | 8/4/05, 70 FR 44855
173-434-030 | Definitions | 1/22/04 | 8/4/05, 70 FR 44855
173-434-090 | Operation and Maintenance Plan | 10/18/90 | 1/15/93, 58 FR 4578
173-434-110 | Standards of Performance | 1/22/04 | 8/4/05, 70 FR 44855 | except section (1)(a)
173-434-130 | Emission Standards | 1/22/04 | 8/4/05, 70 FR 44855 | except section (2)
173-434-160 | Design and Operation | 1/22/04 | 8/4/05, 70 FR 44855
173-434-170 | Monitoring and Reporting | 1/22/04 | 8/4/05, 70 FR 44855
173-434-190 | Changes in Operation | 1/22/04 | 8/4/05, 70 FR 44855
173-434-200 | Emission Inventory | 1/22/04 | 8/4/05, 70 FR 44855
173-434-210 | Special Studies | 10/18/90 | 1/15/93, 58 FR 4578
Washington Administrative Code, Chapter 173-435—Emergency Episode Plan
173-435-010 | Purpose | 1/3/89 | 1/15/93, 58 FR 4578
173-435-015 | Significant Harm Levels | 1/3/89 | 1/15/93, 58 FR 4578
173-435-020 | Definitions | 1/3/89 | 1/15/93, 58 FR 4578
173-435-030 | Episode Stage Criteria | 1/3/89 | 1/15/93, 58 FR 4578
173-435-040 | Source Emission Reduction Plans | 1/3/89 | 1/15/93, 58 FR 4578
173-435-050 | Action Procedures | 1/3/89 | 1/15/93, 58 FR 4578
173-435-060 | Enforcement | 1/3/89 | 1/15/93, 58 FR 4578
173-435-070 | Sampling Sites, Equipment and Methods | 1/3/89 | 1/15/93, 58 FR 4578 | except section (1)
Washington Administrative Code, Chapter 173-476—Ambient Air Quality Standards
173-476-010 | Purpose | 12/22/13 | 3/4/14, 79 FR 12077
173-476-020 | Applicability | 12/22/13 | 3/4/14, 79 FR 12077
173-476-030 | Definitions | 12/22/13 | 3/4/14, 79 FR 12077
173-476-100 | Ambient Air Quality Standard for PM-10 | 12/22/13 | 3/4/14, 79 FR 12077
173-476-110 | Ambient Air Quality Standards for PM-2.5 | 12/22/13 | 3/4/14, 79 FR 12077
173-476-120 | Ambient Air Quality Standard for Lead (Pb) | 12/22/13 | 3/4/14, 79 FR 12077
173-476-130 | Ambient Air Quality Standards for Sulfur Oxides (Sulfur Dioxide) | 12/22/13 | 3/4/14, 79 FR 12077
173-476-140 | Ambient Air Quality Standards for Nitrogen Oxides (Nitrogen Dioxide) | 12/22/13 | 3/4/14, 79 FR 12077
173-476-150 | Ambient Air Quality Standard for Ozone | 12/22/13 | 3/4/14, 79 FR 12077
173-476-160 | Ambient Air Quality Standards for Carbon Monoxide | 12/22/13 | 3/4/14, 79 FR 12077
173-476-170 | Monitor Siting Criteria | 12/22/13 | 3/4/14, 79 FR 12077
173-476-180 | Reference Conditions | 12/22/13 | 3/4/14, 79 FR 12077
173-476-900 | Table of Standards | 12/22/13 | 3/4/14, 79 FR 12077
Washington Administrative Code, Chapter 173-490—Emission Standards and Controls for Sources Emitting Volatile Organic Compounds
173-490-010 | Policy and Purpose | 3/22/91 | 7/12/93, 58 FR 37426
173-490-020 | Definitions | 3/22/91 | 7/12/93, 58 FR 37426
173-490-025 | General Applicability | 3/22/91 | 7/12/93, 58 FR 37426
173-490-030 | Registration and Reporting | 3/22/91 | 7/12/93, 58 FR 37426
173-490-040 | Requirements | 3/22/91 | 7/12/93, 58 FR 37426
173-490-080 | Exceptions and Alternative Methods | 3/22/91 | 7/12/93, 58 FR 37426
173-490-090 | New Source Review (NSR) | 3/22/91 | 7/12/93, 58 FR 37426
173-490-200 | Petroleum Refinery Equipment Leaks | 3/22/91 | 7/12/93, 58 FR 37426
173-490-201 | Petroleum Liquid Storage in External Floating Roof Tanks | 3/22/91 | 7/12/93, 58 FR 37426
173-490-202 | Leaks from Gasoline Transport Tanks and Vapor Collection System | 3/22/91 | 7/12/93, 58 FR 37426
173-490-203 | Perchloroethylene Dry Cleaning Systems | 3/22/91 | 7/12/93, 58 FR 37426
173-490-204 | Graphic Arts System | 3/22/91 | 7/12/93, 58 FR 37426
173-490-205 | Surface Coating of Miscellaneous Metal Parts and Products | 3/22/91 | 7/12/93, 58 FR 37426
173-490-207 | Surface Coating of Flatwood Paneling | 3/22/91 | 7/12/93, 58 FR 37426
173-490-208 | Aerospace Assembly and Component Coating Operations | 3/22/91 | 7/12/93, 58 FR 37426
Washington Administrative Code, Chapter 173-492—Motor Fuel Specifications for Oxygenated Gasoline
173-492-010 | Policy and Purpose | 10/19/96 | 4/30/97, 62 FR 23363
173-492-020 | Applicability | 12/1/92 | 4/30/97, 62 FR 23363
173-492-030 | Definitions | 12/1/92 | 4/30/97, 62 FR 23363
173-492-040 | Compliance Requirements | 12/1/92 | 4/30/97, 62 FR 23363
173-492-050 | Registration Requirements | 10/19/96 | 4/30/97, 62 FR 23363
173-492-060 | Labeling Requirements | 12/1/92 | 4/30/97, 62 FR 23363
173-492-070 | Control Areas and Control Periods | 10/19/96 | 4/30/97, 62 FR 23363
173-492-080 | Enforcement and Compliance | 12/1/92 | 4/30/97, 62 FR 23363
173-492-090 | Unplanned Conditions | 12/1/92 | 4/30/97, 62 FR 23363
173-492-100 | Severability | 12/1/92 | 4/30/97, 62 FR 23363

Table 2—Additional Regulations Approved for Washington Department of Ecology (Ecology) Direct Jurisdiction
[Applicable in Adams, Asotin, Chelan, Columbia, Douglas, Ferry, Franklin, Garfield, Grant, Kittitas, Klickitat, Lincoln, Okanogan, Pend Oreille, San Juan, Stevens, Walla Walla, and Whitman counties, excluding facilities subject to Energy Facilities Site Evaluation Council (EFSEC) jurisdiction. These regulations also apply statewide for facilities subject to the applicability sections of WAC 173-405-012, WAC 173-410-012, and WAC 173-415-012]
State citation | Title/subject | State effective date | EPA approval date | Explanations
Washington Administrative Code, Chapter 173-400—General Regulations for Air Pollution Sources
173-400-010 | Policy and Purpose | 3/22/91 | 6/2/95, 60 FR 28726
173-400-020 | Applicability | 12/29/12 | 10/3/14 [Insert Federal Register citation]
173-400-030 | Definitions | 12/29/12 | 10/3/14 [Insert Federal Register citation] | Except: 173-400-030(91)
173-400-036 * | Relocation of Portable Sources | 12/29/12 | 10/3/14 [Insert Federal Register citation]
173-400-040 | General Standards for Maximum Emissions | 4/1/11 | 10/3/14] [Insert Federal Register citation] | Except:
|  |  |  | 173-400-040(2)(c);
|  |  |  | 173-400-040(2)(d);
|  |  |  | 173-400-040(3);
|  |  |  | 173-400-040(5);
|  |  |  | 173-400-040(7), second paragraph.
173-400-050 | Emission Standards for Combustion and Incineration Units | 12/29/12 | 10/3/14 [Insert Federal Register citation] | Except: 173-400-050(4); 173-400-050(5).
173-400-060 | Emission Standards for General Process Units | 2/10/05 | 10/3/14 [Insert Federal Register citation]
173-400-070 | Emission Standards for Certain Source Categories | 12/29/12 | 10/3/14 [Insert Federal Register citation] | Except: 173-400-070(7); 173-400-070(8).
173-400-081 | Startup and Shutdown | 4/1/11 | 10/3/14 [Insert Federal Register citation]
173-400-091 | Voluntary Limits on Emissions | 9/20/93 | 10/3/14 [Insert Federal Register citation]
173-400-105 | Records, Monitoring, and Reporting | 12/29/12 | 10/3/14 [Insert Federal Register citation]
173-400-107 | Excess Emissions | 9/20/93 | 6/2/95, 60 FR 28726
173-400-110 * | New Source Review (NSR) for Sources and Portable Sources | 12/29/12 | 10/3/14 [Insert Federal Register citation] | Except:
|  |  |  | 173-400-110(1)(c)(ii)(C);
|  |  |  | 173-400-110(1)(e);
|  |  |  | 173-400-110(2)(d);
|  |  |  | The part of WAC 173-400-110(4)(b)(vi) that says, “not for use with materials containing toxic air pollutants, as listed in chapter 173-460 WAC,”;
|  |  |  | The part of 400-110(4)(e)(iii) that says, “where toxic air pollutants as defined in chapter 173-460 WAC are not emitted”;
|  |  |  | The part of 400-110(4)(e)(f)(i) that says, “that are not toxic air pollutants listed in chapter 173-460 WAC”;
|  |  |  | The part of 400-110(4)(h)(xviii) that says, “, to the extent that toxic air pollutant gases as defined in chapter 173-460 WAC are not emitted”;
|  |  |  | The part of 400-110(4)(h)(xxxiii) that says, “where no toxic air pollutants as listed under chapter 173-460 WAC are emitted”;
|  |  |  | The part of 400-110(4)(h)(xxxiv) that says, “, or ≤1% (by weight) toxic air pollutants as listed in chapter 173-460 WAC”;
|  |  |  | The part of 400-110(4)(h)(xxxv) that says, “or ≤1% (by weight) toxic air pollutants”;
|  |  |  | The part of 400-110(4)(h)(xxxvi) that says, “or ≤ 1% (by weight) toxic air pollutants as listed in chapter 173-460 WAC”; 400-110(4)(h)(xl), second sentence; The last row of the table in 173-400-110(5)(b) regarding exemption levels for Toxic Air Pollutants.
173-400-111 * | Processing Notice of Construction Applications for Sources, Stationary Sources and Portable Sources | 12/29/12 | 10/3/14 [Insert Federal Register citation] | Except:
|  |  |  | 173-400-111(3)(h);
|  |  |  | 173-400-111(3)(i);
|  |  |  | The part of 173-400-111(8)(a)(v) that says, “and 173-460-040,”; 173-400-111(9).
173-400-112 * | Requirements for New Sources in Nonattainment Areas—Review for Compliance with Regulations | 12/29/12 | 10/3/14 [Insert Federal Register citation] | Except: 173-400-112(8)
173-400-113 * | New Sources in Attainment or Unclassifiable Areas—Review for Compliance with Regulations | 12/29/12 | 10/3/14 [Insert Federal Register citation] | Except: 173-400-113(3), second sentence.
173-400-118 | Designation of Class I, II, and III Areas | 12/29/12 | 10/3/14 [Insert Federal Register citation]
173-400-151 | Retrofit Requirements for Visibility Protection | 2/10/05 | 10/3/14 [Insert Federal Register citation]
173-400-161 | Compliance Schedules | 3/22/91 | 6/2/95, 60 FR 28726
173-400-171 * | Public Notice and Opportunity for Public Comment | 12/29/12 | 10/3/14 [Insert Federal Register citation] | Except:
|  |  |  | The part of 173-400-171(3)(b) that says, “or any increase in emissions of a toxic air pollutant above the acceptable source impact level for that toxic air pollutant as regulated under chapter 173-460 WAC”; 173-400-171 (12).
173-400-175 | Public Information | 2/10/05 | 10/3/14 [Insert Federal Register citation]
173-400-190 | Requirements for Nonattainment Areas | 3/22/91 | 6/2/95, 60 FR 28726
173-400-200 | Creditable Stack Height and Dispersion Techniques | 2/10/05 | 10/3/14 [Insert Federal Register citation]
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726
173-400-560 * | General Order of Approval | 12/29/12 | 10/3/14 [Insert Federal Register citation] | Except:
|  |  |  | The part of 173-400-560(1)(f) that says, “173-460 WAC”.
* The EPA's approval of the WAC 173-400-110 through -113, 173-400-036, 173-400-171, and 173-400-560 is not a determination that these regulations meet requirements for major sources such as a SIP-approved PSD permitting program (40 CFR 51.166), a SIP-approved major NNSR permitting program (40 CFR 51.165), or a SIP-approved visibility program (40 CFR 51.307).

Table 3—Additional Regulations Approved for the Energy Facilities Site Evaluation Council (EFSEC) Jurisdiction
[See the SIP-approved provisions of WAC 463-39-020 for jurisdictional applicability]
State citation | Title/subject | State effective date | EPA approval date | Explanations
Washington Administrative Code, Chapter 463-39—General Regulations for Air Pollution Sources
463-39-005 | Adoption by Reference | 9/21/95 | 5/23/96, 61 FR 25791 | except sections (2), (3) & (4).
463-39-010 | Purpose | 5/3/92 | 5/23/96, 61 FR 25791
463-39-020 | Applicability | 9/21/95 | 5/23/96, 61 FR 25791
463-39-030 | Additional Definitions | 9/21/95 | 5/23/96, 61 FR 25791
463-39-095 | Permit Issuance | 9/21/95 | 5/23/96, 61 FR 25791
463-39-100 | Registration | 12/11/93 | 5/23/96, 61 FR 25791
463-39-120 | Monitoring and Special Report | 9/21/95 | 5/23/96, 61 FR 25791
463-39-135 | Criminal Penalties | 8/6/79 | 5/23/96, 61 FR 25791
463-39-170 | Conflict of Interest | 8/6/79 | 5/23/96, 61 FR 25791
463-39-230 | Regulatory Actions | 8/26/94 | 5/23/96, 61 FR 25791 |

TABLE 4—ADDITIONAL REGULATIONS APPROVED FOR THE BENTON CLEAN AIR AGENCY (BCAA) JURISDICTION
[Applicable in Benton County, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726 |

Table 5—Additional Regulations Approved for the Northwest Clean Air Agency (NWCAA) Jurisdiction
[Applicable in Island, Skagit and Whatcom counties, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726
Northwest Clean Air Agency Regulations
General Provisions
100 | Name of Authority | 9/8/93 | 2/22/95, 60 FR 9778
101 | Short Title | 9/8/93 | 2/22/95, 60 FR 9778
102 | Policy | 9/8/93 | 2/22/95, 60 FR 9778
103 | Duties & Powers | 9/8/93 | 2/22/95, 60 FR 9778
104 | Adoption of State/Federal Laws and Rules | 11/13/94 | 10/24/95, 60 FR 54439 | except section 104.2.
105 | Separability | 9/8/93 | 2/22/95, 60 FR 9778
106 | Public Records | 9/8/93 | 2/22/95, 60 FR 9778
110 | Investigation and Studies | 9/8/93 | 2/22/95, 60 FR 9778
111 | Interference or Obstruction | 9/8/93 | 2/22/95, 60 FR 9778
112 | False and Misleading Oral Statements | 9/8/93 | 2/22/95, 60 FR 9778
113 | Service of Notice | 9/8/93 | 2/22/95, 60 FR 9778
114 | Confidential Information | 9/8/93 | 2/22/95, 60 FR 9778
120 | Hearings | 9/8/93 | 2/22/95, 60 FR 9778
121 | Orders | 9/8/93 | 2/22/95, 60 FR 9778
122 | Appeals from Orders or Violations | 9/8/93 | 2/22/95, 60 FR 9778
123 | Status of Orders on Appeal | 9/8/93 | 2/22/95, 60 FR 9778
124 | Display of Orders | 9/8/93 | 2/22/95, 60 FR 9778
130 | Citations—Notices | 9/8/93 | 2/22/95, 60 FR 9778
131 | Violations—Notices | 9/8/93 | 2/22/95, 60 FR 9778
132 | Criminal Penalty | 11/13/94 | 10/24/95, 60 FR 54439
133 | Civil Penalty | 11/13/94 | 10/24/95, 60 FR 54439
134 | Restraining Orders—Injunction | 9/8/93 | 2/22/95, 60 FR 9778
135 | Additional Enforcement—Compliance Schedules | 9/8/93 | 2/22/95, 60 FR 9778
140 | Reporting by Government Agencies | 9/8/93 | 2/22/95, 60 FR 9778
145 | Motor Vehicle Owner Responsibility | 9/8/93 | 2/22/95, 60 FR 9778
150 | Pollutant Disclosure—Reporting by Air Containment Sources | 9/8/93 | 2/22/95, 60 FR 9778
180 | Sampling and Analytical Methods/References | 9/8/93 | 2/22/95, 60 FR 9778
Definitions
200 | Definitions | 11/13/94 | 10/24/95, 60 FR 54439
Control Procedures
300 | Notice of Construction When Required | 11/13/94 | 10/24/95, 60 FR 54439
301 | Information Required for Notice of Construction & Application for Approval, Public Notice, Public Hearing | 11/13/94 | 10/24/95, 60 FR 54439
302 | Issuance of Approval or Order | 11/13/94 | 10/24/95, 60 FR 54439
303 | Notice of Completion—Notice of Violation | 9/8/93 | 2/22/95, 60 FR 9778
310 | Approval to Operate Required | 9/8/93 | 2/22/95, 60 FR 9778
320 | Registration Required | 9/8/93 | 2/22/95, 60 FR 9778
321 | General Requirements for Registration | 9/8/93 | 2/22/95, 60 FR 9778
322 | Exemptions from Registration | 11/13/94 | 10/24/95, 60 FR 54439
323 | Classes of Registration | 9/8/93 | 2/22/95, 60 FR 9778
324 | Fees | 11/13/94 | 10/24/95, 60 FR 54439 | except section 324.121.
325 | Transfer | 9/8/93 | 2/22/95, 60 FR 9778
340 | Report of Breakdown and Upset | 11/13/94 | 10/24/95, 60 FR 54439
341 | Schedule Report of Shutdown or Start-Up | 9/8/93 | 2/22/95, 60 FR 9778
342 | Operation and Maintenance | 9/8/93 | 2/22/95, 60 FR 9778
360 | Testing and Sampling | 9/8/93 | 2/22/95, 60 FR 9778
365 | Monitoring | 9/8/93 | 2/22/95, 60 FR 9778
366 | Instrument Calibration | 9/8/93 | 2/22/95, 60 FR 9778
Standards
400 | Ambient Air Standards—Forward | 9/8/93 | 2/22/95, 60 FR 9778
401 | Suspended Particulate Standards (PM-10) | 9/8/93 | 2/22/95, 60 FR 9778
410 | Sulfur Oxide Standards | 9/8/93 | 2/22/95, 60 FR 9778
420 | Carbon Monoxide Standards | 9/8/93 | 2/22/95, 60 FR 9778
422 | Nitrogen Oxide Standards | 9/8/93 | 2/22/95, 60 FR 9778
424 | Ozone Standards | 9/8/93 | 2/22/95, 60 FR 9778
450 | Emission Standards—Forward | 9/8/93 | 2/22/95, 60 FR 9778
451 | Emission of Air Contaminant—Visual Standards | 11/13/94 | 10/24/95, 60 FR 54439
452 | Motor Vehicle Visual Standards | 9/8/93 | 2/22/95, 60 FR 9778 | except section 452.5.
455 | Emission of Particulate Matter | 9/8/93 | 2/22/95, 60 FR 9778
458 | Incinerators—Wood Waste Burners | 9/8/93 | 2/22/95, 60 FR 9778
460 | Weight/Heat Rate Standard—Emission of Sulfur Compounds | 9/8/93 | 2/22/95, 60 FR 9778
462 | Emission of Sulfur Compounds | 11/13/94 | 10/24/95, 60 FR 54439
466 | Portland Cement Plants | 9/8/93 | 2/22/95, 60 FR 9778
Regulated Activities and Prohibitions
510 | Incinerator Burning | 9/8/93 | 2/22/95, 60 FR 9778
520 | Sulfur Compounds in Fuel | 9/8/93 | 2/22/95, 60 FR 9778
550 | Particulate Matter from Becoming Airborne | 9/8/93 | 2/22/95, 60 FR 9778
560 | Storage of Organic Liquids | 9/8/93 | 2/22/95, 60 FR 9778
580 | Volatile Organic Compound Control (VOC) | 11/13/94 | 10/24/95, 60 FR 54439 |

Table 6—Additional Regulations Approved for the Olympic Region Clean Air Agency (ORCAA) Jurisdiction
[Applicable in Clallam, Grays Harbor, Jefferson, Mason, Pacific, and Thurston counties, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726 |
173-400-260 | Conflict of Interest | 3/22/91 | 6/2/95, 60 FR 28726 |
Olympic Region Clean Air Agency Regulations
Rule 6.2 Outdoor Burning
6.2.3 | No Residential or Land Clearing Burning | 2/4/12 | 10/3/13, 78 FR 61188 | Only as it applies to the cities of Olympia, Lacey, and Tumwater.
6.2.6 | Curtailment | 3/18/11 | 10/3/13, 78 FR 61188 |
6.2.7 | Recreational Burning | 3/18/11 | 10/3/13, 78 FR 61188 |
Rule 8.1 Wood Heating
8.1.1 | Definitions | 5/22/10 | 10/3/13, 78 FR 61188
8.1.2 (b) and (c) | General Emission Standards | 5/22/10 | 10/3/13, 78 FR 61188
8.1.3 | Prohibited Fuel Types | 5/22/10 | 10/3/13, 78 FR 61188
8.1.4 | Curtailment | 5/22/10 | 10/3/13, 78 FR 61188
8.1.5 | Exceptions | 5/22/10 | 10/3/13, 78 FR 61188
8.1.7 | Sale and Installation of Uncertified Woodstoves | 5/22/10 | 10/3/13, 78 FR 61188
8.1.8 | Disposal of Uncertified Woodstoves | 5/22/10 | 10/3/13, 78 FR 61188 |

Table 7—Additional Regulations Approved for the Puget Sound Clean Air Agency (PSCAA) Jurisdiction
[Applicable in King, Kitsap, Pierce and Snohomish counties, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726
Puget Sound Clean Air Agency Regulations
Regulation I—Article 1: Policy, Short Title, and Definitions
1.01 | Policy | 11/1/99 | 8/31/04, 69 FR 53007
1.03 | Name of Agency | 11/1/99 | 8/31/04, 69 FR 53007
1.05 | Short Title | 11/1/99 | 8/31/04, 69 FR 53007
1.07 | Definitions | 5/19/94 | 6/29/95, 60 FR 33734
Regulation I—Article 3: General Provisions
3.04 | Reasonably Available Control Technology | 4/17/99 | 8/31/04, 69 FR 53007 | except (e).
3.06 | Credible Evidence | 11/14/98 | 8/31/04, 69 FR 53007
Regulation I—Article 5: Registration
5.02 | Applicability and Purpose of the Registration Program | 11/1/96 | 8/6/97, 62 FR 42216
5.03 | Registration Required | 8/13/99 | 8/31/04, 69 FR 53007 | except (a)(5).
5.05 | General Reporting Requirements for Registration | 11/1/98 | 8/31/04, 69 FR 53007
Regulation I—Article 6: New Source Review
6.03 | Notice of Construction | 11/1/96 | 8/6/97, 62 FR 42216
6.04 | Notice of Construction Review Fees | 11/1/97 | 4/21/98, 63 FR 19658
6.06 | Public Notice | 5/19/94 | 6/29/95, 60 FR 33734
6.07 | Order of Approval—Order to Prevent Construction | 5/19/94 | 6/29/95, 60 FR 33734
6.08 | Emission Reduction Credit Banking | 1/1/93 | 8/29/94, 59 FR 44324
6.09 | Notice of Completion | 5/19/94 | 6/29/95, 60 FR 33734 |
6.10 | Work Done without an Approval | 11/1/97 | 4/21/98, 63 FR 19658
Regulation I—Article 7: Operating Permits
7.09 | General Reporting Requirements for Operating Permits | 11/1/98 | 8/31/04, 69 FR 53007
Regulation I—Article 8: Outdoor Burning
8.04 | General Conditions for Outdoor Burning | 1/1/01 | 8/31/04, 69 FR 53007
8.05 | Agricultural Burning | 1/1/01 | 8/31/04, 69 FR 53007
8.06 | Outdoor Burning Ozone Contingency Measure | 1/23/03 | 8/5/04, 69 FR 47364
8.09 | Description of King County No-Burn Area | 1/1/01 | 8/31/04, 69 FR 53007
8.10 | Description of Pierce County No-Burn Area | 1/1/01 | 8/31/04, 69 FR 53007
8.11 | Description of Snohomish County No-Burn Area | 1/1/01 | 8/31/04, 69 FR 53007 |
8.12 | Description of Kitsap County No-Burn Area | 11/30/02 | 8/31/04, 69 FR 53007
Regulation I—Article 9: Emission Standards
9.03 | Emission of Air Contaminant: Visual Standard | 4/17/99 | 8/31/04, 69 FR 53007 | except (e).
9.04 | Opacity Standards for Equipment with Continuous Opacity Monitoring Systems | 6/1/98 | 8/31/04, 69 FR 53007 | except (d)(2) & (f).
9.05 | Refuse Burnin. | 1/13/94 | 6/29/95, 60 FR 33734
9.07 | Sulfur Dioxide Emission Standard | 5/19/94 | 6/29/95, 60 FR 33734
9.08 | Fuel Oil Standards | 5/19/94 | 6/29/95, 60 FR 33734
9.09 | Particulate Matter Emission Standards | 6/1/98 | 8/31/04, 69 FR 53007
9.15 | Fugitive Dust Control Measures | 4/17/99 | 8/31/04, 69 FR 53007
9.16 | Spray-Coating Operations | 9/1/01 | 8/31/04, 69 FR 53007 |
9.20 | Maintenance of Equipment | 6/9/88 | 8/29/94, 59 FR 44324
Regulation I—Article 12: Standards of Performance for Continuous Emission Monitoring Systems
12.01 | Applicability. | 6/1/98 | 8/31/04, 69 FR 53007 |
12.03 | Continuous Emission Monitoring Systems | 11/1/04 | 9/17/13, 78 FR 57073
Regulation I—Article 13: Solid Fuel Burning Device Standards
13.01 | Policy and Purpose | 12/01/12 | 5/29/13, 78 FR 32131
13.02 | Definitions | 12/01/12 | 5/29/13, 78 FR 32131
13.03 | Opacity Standards | 12/01/12 | 5/29/13, 78 FR 32131
13.04 | Prohibited Fuel Types | 12/01/12 | 5/29/13, 78 FR 32131
13.05 | Curtailment | 12/01/12 | 5/29/13, 78 FR 32131
13.06 | Emission Performance Standards | 12/01/12 | 5/29/13, 78 FR 32131 |
13.07 | Contingency Plan | 12/01/12 | 5/29/13, 78 FR 32131
Regulation II—Article 1: Purpose, Policy, Short Title, and Definitions
1.01 | Purpose | 11/1/99 | 8/31/04, 69 FR 53007
1.02 | Policy | 11/1/99 | 8/31/04, 69 FR 53007
1.03 | Short Title | 11/1/99 | 8/31/04, 69 FR 53007
1.04 | General Definitions | 12/11/80 | 2/28/83, 48 FR 8273 |
1.05 | Special Definitions | 9/1/03 | 9/17/13, 78 FR 57073
Regulation II—Article 2: Gasoline Marketing Emission Standards
2.01 | Definitions | 8/13/99 | 8/31/04, 69 FR 53007
2.03 | Petroleum Refineries | 7/15/91 | 8/29/94, 59 FR 44324
2.05 | Gasoline Loading Terminals | 1/13/94 | 6/29/95, 60 FR 33734
2.06 | Bulk Gasoline Plants | 7/15/91 | 8/29/94, 59 FR 44324
2.07 | Gasoline Stations | 1/10/00 | 8/31/04, 69 FR 53007
2.08 | Gasoline Transport Tanks | 8/13/99 | 8/31/04, 69 FR 53007
2.09 | Oxygenated Gasoline Carbon Monoxide Contingency Measure and Fee Schedule | 1/23/03 | 8/5/04, 69 FR 47365
2.10 | Gasoline Station Ozone Contingency Measure | 1/23/03 | 8/5/04, 69 FR 47365
Regulation II—Article 3: Miscellaneous Volatile Organic Compound Emission Standards
3.01 | Cutback Asphalt Paving | 7/15/91 | 8/29/94, 59 FR 44324
3.02 | Volatile Organic Compound Storage Tanks | 8/13/99 | 8/31/04, 69 FR 53007
3.03 | Can and Paper Coating Operations | 3/17/94 | 6/29/95, 60 FR 33734
3.04 | Motor Vehicle and Mobile Equipment Coating Operations | 9/1/03 | 9/17/13, 78 FR 57073
3.05 | Graphic Arts Systems | 1/13/94 | 6/29/95, 60 FR 33734
3.08 | Polyester, Vinylester, Gelcoat, and Resin Operations | 1/13/94 | 6/29/95, 60 FR 33734
3.09 | Aerospace Component Coating Operations | 1/13/94 | 6/29/95, 60 FR 33734 |

TABLE 8—Additional Regulations Approved for the Southwest Clean Air Agency (SWCAA) Jurisdiction
[Applicable in Clark, Cowlitz, Lewis, Skamania and Wahkiakum counties, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726 |
173-400-260 | Conflict of Interest | 3/22/91 | 6/2/95, 60 FR 28726
Southwest Clean Air Agency Regulations
General Regulations for Air Pollution Sources
400-010 | Policy and Purpose | 9/21/95 | 2/26/97, 62 FR 8624
400-020 | Applicability | 9/21/95 | 2/26/97, 62 FR 8624
400-030 | Definitions | 11/21/96 | 5/19/97, 62 FR 27204 | except 2nd sentence in two subsections (14) & (49), subsection (84).
400-040 | General Standards for Maximum Emissions | 9/21/95 | 2/26/97, 62 FR 8624 | except (1)(c), and (1)(d), (2), (4), and the exception provision of (6)(a).
400-050 | Emission Standards for Combustion and Incineration Units | 9/21/95 | 2/26/97, 62 FR 8624 | except the exception provision in (3).
400-052 | Stack Sampling of Major Combustion Sources | 9/21/95 | 2/26/97, 62 FR 8624
400-060 | Emission Standards for General Process Units | 9/21/95 | 2/26/97, 62 FR 8624
400-070 | Emission Standards for Certain Source Categories | 9/21/95 | 2/26/97, 62 FR 8624 | except (5).
400-074 | Gasoline Transport Tankers | 9/21/95 | 2/26/97, 62 FR 8624
400-081 | Startup and Shutdown | 9/21/95 | 2/26/97, 62 FR 8624
400-090 | Voluntary Limits on Emissions | 11/8/93 | 5/3/95, 60 FR 21703
400-091 | Voluntary Limits on Emissions | 9/21/95 | 2/26/97, 62 FR 8624
400-100 | Registration and Operating Permits | 9/21/95 | 2/26/97, 62 FR 8624 | except the first sentence of (3)(a)(iv) & (4).
400-101 | Sources Exempt from Registration Requirements | 11/21/96 | 5/19/97, 62 FR 27204
400-105 | Records, Monitoring and Reporting | 9/21/95 | 2/26/97, 62 FR 8624
400-107 | Excess Emissions | 9/21/95 | 2/26/97, 62 FR 8624
400-109 | Notice of Construction Application | 11/21/96 | 5/19/97, 62 FR 27204 | except subsections (3)(b), (3)(c), (3)(g), (3)(h), (3)(i).
400-110 | New Source Review | 11/21/96 | 5/19/97, 62 FR 27204
400-111 | Requirements for Sources in a Maintenance Plan Area | 11/21/96 | 5/19/97, 62 FR 27204
400-112 | Requirements for New Sources in Nonattainment Areas | 11/21/96 | 5/19/97, 62 FR 27204
400-113 | Requirements for New Sources in Attainment or Nonclassifiable Areas | 11/21/96 | 5/19/97, 62 FR 27204
400-114 | Requirements for Replacement or Substantial Alteration for Emission Control Technology at an Existing Stationary Source | 11/21/96 | 5/19/97, 62 FR 27204
400-116 | Maintenance of Equipment | 11/21/96 | 5/19/97, 62 FR 27204
400-151 | Retrofit Requirements for Visibility Protection | 9/21/95 | 2/26/97, 62 FR 8624
400-161 | Compliance Schedules | 9/21/95 | 2/26/97, 62 FR 8624
400-171 | Public Involvement | 9/21/95 | 2/26/97, 62 FR 8624
400-190 | Requirements for Nonattainment Areas | 11/21/96 | 5/19/97, 62 FR 27204
400-200 | Creditable Stack Height & Dispersion Techniques | 9/21/95 | 2/26/97, 62 FR 8624
400-205 | Adjustment for Atmospheric Conditions | 9/21/95 | 2/26/97, 62 FR 8624
400-210 | Emission Requirements of Prior Jurisdictions | 9/21/95 | 2/26/97, 62 FR 8624
400-220 | Requirements for Board Members | 9/21/95 | 2/26/97, 62 FR 8624
400-230 | Regulatory Actions & Civil Penalties | 9/21/95 | 2/26/97, 62 FR 8624
400-240 | Criminal Penalties | 9/21/95 | 2/26/97, 62 FR 8624
400-250 | Appeals | 9/21/95 | 2/26/97, 62 FR 8624
400-260 | Conflict of Interest | 9/21/95 | 2/26/97, 62 FR 8624
400-270 | Confidentiality of Records & Information | 9/21/95 | 2/26/97, 62 FR 8624
400-280 | Powers of Authority | 9/21/95 | 2/26/97, 62 FR 8624
Emission Standards and Controls for Sources Emitting Volatile Organic Compounds
490-010 | Policy and Purpose | 11/21/96 | 5/19/97, 62 FR 27204
490-020 | Definitions | 11/21/96 | 5/19/97, 62 FR 27204
490-025 | General Applicability | 11/21/96 | 5/19/97, 62 FR 27204
490-030 | Registration and Reporting | 11/21/96 | 5/19/97, 62 FR 27204
490-040 | Requirements | 11/21/96 | 5/19/97, 62 FR 27204
490-080 | Exceptions & Alternative Methods | 11/21/96 | 5/19/97, 62 FR 27204
490-090 | New Source Review | 11/21/96 | 5/19/97, 62 FR 27204
490-200 | Petroleum Refinery Equipment Leaks | 11/21/96 | 5/19/97, 62 FR 27204
490-201 | Petroleum Liquid Storage in External Floating Roof Tanks | 11/21/96 | 5/19/97, 62 FR 27204
490-202 | Leaks from Gasoline Transport Tanks and Vapor Collection Systems | 11/21/96 | 5/19/97, 62 FR 27204
490-203 | Perchloroethylene Dry Cleaning Systems | 11/21/96 | 5/19/97, 62 FR 27204
490-204 | Graphic Arts Systems | 11/21/96 | 5/19/97, 62 FR 27204
490-205 | Surface Coating of Miscellaneous Metal Parts and Products | 11/21/96 | 5/19/97, 62 FR 27204
490-207 | Surface Coating of Flatwood Paneling | 11/21/96 | 5/19/97, 62 FR 27204
490-208 | Aerospace Assembly & Component Coating Operations | 11/21/96 | 5/19/97, 62 FR 27204
Emissions Standards and Controls for Sources Emitting Gasoline Vapors
491-010 | Policy and Purpose | 11/21/96 | 5/19/97, 62 FR 27204
491-015 | Applicability | 11/21/96 | 5/19/97, 62 FR 27204
491-020 | Definitions | 11/21/96 | 5/19/97, 62 FR 27204
491-030 | Registration | 11/21/96 | 5/19/97, 62 FR 27204
491-040 | Gasoline Vapor Control Requirements | 11/21/96 | 5/19/97, 62 FR 27204
491-050 | Failures, Certification, Testing & Recordkeeping | 11/21/96 | 5/19/97, 62 FR 27204
491-060 | Severability | 11/21/96 | 5/19/97, 62 FR 27204
Oxygenated Fuels
492-010 | Policy and Purpose | 11/21/96 | 4/30/97, 62 FR 23363
492-020 | Applicability | 11/21/96 | 4/30/97, 62 FR 23363
492-030 | Definitions | 11/21/96 | 4/30/97, 62 FR 23363
492-040 | Compliance Requirements | 11/21/96 | 4/30/97, 62 FR 23363
492-050 | Registration Requirements | 11/21/96 | 4/30/97, 62 FR 23363
492-060 | Labeling Requirements | 11/21/96 | 4/30/97, 62 FR 23363
492-070 | Control Area and Control Period | 11/21/96 | 4/30/97, 62 FR 23363
492-080 | Enforcement and Compliance | 11/21/96 | 4/30/97, 62 FR 23363
492-090 | Unplanned Conditions | 11/21/96 | 4/30/97, 62 FR 23363
492-100 | Severability | 11/21/96 | 4/30/97, 62 FR 23363
VOC Area Source Rules
493-100 | Consumer Products (Reserved) | 05/26/96 | 5/19/97, 62 FR 27204
493-200-010 | Applicability | 05/26/96 | 5/19/97, 62 FR 27204
493-200-020 | Definitions | 05/26/96 | 5/19/97, 62 FR 27204
493-200-030 | Spray Paint Standards & Exemptions | 05/26/96 | 5/19/97, 62 FR 27204
493-200-040 | Requirements for Manufacture, Sale and Use of Spray Paint | 05/26/96 | 5/19/97, 62 FR 27204
493-200-050 | Recordkeeping & Reporting Requirements | 05/26/96 | 5/19/97, 62 FR 27204
493-200-060 | Inspection and Testing Requirements | 05/26/96 | 5/19/97, 62 FR 27204
493-300-010 | Applicability | 5/26/96 | 5/19/97, 62 FR 27204
493-300-020 | Definitions | 5/26/96 | 5/19/97, 62 FR 27204
493-300-030 | Standards | 5/26/96 | 5/19/97, 62 FR 27204
493-300-040 | Requirements for Manufacture, Sale and Use of Architectural Coatings | 5/26/96 | 5/19/97, 62 FR 27204
493-300-050 | Recordkeeping & Reporting Requirements | 5/26/96 | 5/19/97, 62 FR 27204
493-300-060 | Inspection and Testing Requirements | 5/26/96 | 5/19/97, 62 FR 27204
493-400-010 | Applicability | 05/26/96 | 5/19/97, 62 FR 27204
493-400-020 | Definitions | 05/26/96 | 5/19/97, 62 FR 27204
493-400-030 | Coating Standards & Exemptions | 05/26/96 | 5/19/97, 62 FR 27204
493-400-040 | Requirements for Manufacture & Sale of Coating | 05/26/96 | 5/19/97, 62 FR 27204
493-400-050 | Requirements for Motor Vehicle Refinishing in Vancouver AQMA | 05/26/96 | 5/19/97, 62 FR 27204
493-400-060 | Recordkeeping and Reporting Requirements | 05/26/96 | 5/19/97, 62 FR 27204
493-400-070 | Inspection & Testing Requirements | 05/26/96 | 5/19/97, 62 FR 27204
493-500-010 | Applicability | 05/26/96 | 5/19/97, 62 FR 27204
493-500-020 | Compliance Extensions | 05/26/96 | 5/19/97, 62 FR 27204
493-500-030 | Exemption from Disclosure to the Public | 05/26/96 | 5/19/97, 62 FR 27204
493-500-040 | Future Review | 05/26/96 | 5/19/97, 62 FR 27204 |

Table 9—Additional Regulations Approved for the Spokane Regional Clean Air Agency (SRCAA) Jurisdiction
[Applicable in Spokane County, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726
Spokane Regional Clean Air Agency Regulations
Regulation I—Article VI—Emissions Prohibited
6.05 | Particulate Matter & Preventing Particulate Matter from becoming Airborne | 11/12/93 | 1/27/97, 62 FR 3800
6.14 | Standards for Control of Particulate Matter on Paved Surfaces | 2/13/99 | 4/12/99, 64 FR 17545
6.15 | Standards for Control of Particulate Matter on Unpaved Roads | 2/13/99 | 4/12/99, 64 FR 17545
6.16 | Motor Fuel Specifications for Oxygenated Gasoline | 7/6/95 | 9/22/97, 62 FR 49442 * | * correction: 12/31/97, 62 FR 68187.
Regulation I—Article VIII—Solid Fuel Burning Device Standards
8.01 | Purpose | 9/10/94 | 1/27/97, 62 FR 3800
8.02 | Applicability | 9/10/94 | 1/27/97, 62 FR 3800
8.03 | Definitions | 9/10/94 | 1/27/97, 62 FR 3800
8.04 | Emission Performance Standards | 9/10/94 | 1/27/97, 62 FR 3800
8.05 | Opacity Standards | 9/10/94 | 1/27/97, 62 FR 3800
8.06 | Prohibited Fuel Types | 9/10/94 | 1/27/97, 62 FR 3800
8.07 | Curtailment | 9/10/94 | 1/27/97, 62 FR 3800
8.08 | Exemptions | 9/10/94 | 1/27/97, 62 FR 3800
8.09 | Procedure to Geographically Limit Solid Fuel Burning Devices | 9/10/94 | 1/27/97, 62 FR 3800
8.10 | Restrictions on Installation of Solid Fuel Burning Devices | 9/10/94 | 1/27/97, 62 FR 3800
8.11 | Regulatory Actions and Penalties | 9/10/94 | 1/27/97, 62 FR 3800
Regulation II—Article IV—Emissions Prohibited
4.01 | Particulate Emissions—Grain Loading Restrictions | 4/26/79 | 6/5/80, 45 FR 37821 |

Table 10—Additional Regulations Approved for the Yakima Regional Clean Air Agency (YRCAA) Jurisdiction
[Applicable in Yakima County, excluding facilities subject to Energy Facilities Site Evaluation Council (EFSEC) jurisdiction and facilities subject to the applicability sections of WAC 173-405-012, WAC 173-410-012, and WAC 173-415-012]
State citation | Title/subject | State effective date | EPA approval date | Explanations
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726
173-400-070 | Emission Standards for Certain Source Categories | 3/22/91 | 6/2/95, 60 FR 28726 | except (7).
173-400-081 | Startup and Shutdown | 9/20/93 | 6/2/95, 60 FR 28726
173-400-091 | Voluntary Limits on Emissions | 9/20/93 | 6/2/95, 60 FR 28726 | including all regulatory orders issued pursuant to this section.
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726 |
173-400-260 | Conflict of Interest | 3/22/91 | 6/2/95, 60 FR 28726 |
Yakima Regional Clean Air Agency Regulations
Article I—Policy, Short Title and Definitions
1.01 | Policy | 12/15/95 | 2/2/98, 63 FR 5269
1.02 | Short Title | 11/18/93 | 2/2/98, 63 FR 5269 |
1.03 | Definitions | 12/15/95 | 2/2/98, 63 FR 5269 |
Article II—General Provisions
2.02 | Control Officer- Powers & Duties | 11/18/93 | 2/2/98, 63 FR 5269
2.03 | Miscellaneous Provisions | 11/18/93 | 2/2/98, 63 FR 5269
2.04 | Confidentiality | 11/18/93 | 2/2/98, 63 FR 5269 |
2.05 | Advisory Council | 11/18/93 | 2/2/98, 63 FR 5269 |
Article III—Violations—Orders and Hearings
3.01 | Notice of Violation—Corrective Action Hearings | 11/18/93 | 2/2/98, 63 FR 5269
3.02 | Finality of Order | 11/18/93 | 2/2/98, 63 FR 5269
3.03 | Stay of Order Pending Appeal | 11/18/93 | 2/2/98, 63 FR 5269 |
3.04 | Voluntary Compliance | 11/18/93 | 2/2/98, 63 FR 5269 |
Article IV—Registration and Notice of Construction
4.01 | Registration | 12/15/95 | 2/2/98, 63 FR 5269
4.02 | Notice of Construction | 12/15/95 | 2/2/98, 63 FR 5269 |
4.03 | Exceptions to Article 4 | 11/18/93 | 2/2/98, 63 FR 5269 |
Article V—Emissions Standards and Preventative Measures
5.01 | Outdoor Burning | 12/15/95 | 2/2/98, 63 FR 5269
5.02 | Regulations Applicable to all Outdoor Burning | 12/15/95 | 2/2/98, 63 FR 5269
5.03 | Regulations Applicable to all Outdoor Burning within Jurisdiction of the Yakima County Clean Air Authority, Local Cities, Towns, Fire Protection Districts and Conservation Districts | 12/15/95 | 2/2/98, 63 FR 5269
5.04 | Regulations Applicable to Permits Issued by the Yakima County Clean Air Authority for all Other Outdoor Burning | 12/15/95 | 2/2/98, 63 FR 5269
5.05 | Additional Restrictions on Outdoor Burning | 12/15/95 | 2/2/98, 63 FR 5269
5.06 | General Standards for Maximum Permissible Emissions | 12/15/95 | 2/2/98, 63 FR 5269
5.07 | Minimum Emission Standards for Combustion and Incineration Sources | 12/15/95 | 2/2/98, 63 FR 5269
5.08 | Minimum Emissions Standards for General Process Sources | 12/15/95 | 2/2/98, 63 FR 5269
5.10 | Sensitive Area Designation | 6/20/94 | 2/2/98, 63 FR 5269
5.11 | Monitoring and Special Reporting | 12/15/95 | 2/2/98, 63 FR 5269 |
5.12 | Preventive Measures | 11/18/93 | 2/2/98, 63 FR 5269 |
Article VIII—Penalty and Severability
8.01 | Penalty for Violation | 11/18/93 | 2/2/98, 63 FR 5269
8.02 | Additional/Alternative Penalties | 12/15/95 | 2/2/98, 63 FR 5269
8.03 | Assurance of Discontinuance | 11/18/93 | 2/2/98, 63 FR 5269
8.04 | Restraining Order—Injunctions | 11/18/93 | 2/2/98, 63 FR 5269 |
8.05 | Severability | 12/15/95 | 2/2/98, 63 FR 5269 |
Article IX—Woodstoves and Fireplaces
9.01 | Policy | 11/18/93 | 2/2/98, 63 FR 5269
9.02 | Opacity | 11/18/93 | 2/2/98, 63 FR 5269
9.03 | Prohibitive Fuel Types | 11/18/93 | 2/2/98, 63 FR 5269
9.04 | Limitations of Sales of Solid Fuel Burning Devices | 11/18/93 | 2/2/98, 63 FR 5269 |
9.05 | Prohibition of Visible Emissions During Air Pollution Episodes | 12/15/95 | 2/2/98, 63 FR 5269 |
Article XII—Adoption of State and Federal Regulations
12.01 | State Regulations | 12/15/95 | 2/2/98, 63 FR 5269 |
Article XIII—Fee Schedules and Other Charges
13.01 | Registration and Fee Schedule | 1/13/94 | 2/2/98, 63 FR 5269
13.02 | Notice of Construction Fee Schedule | 6/20/94 | 2/2/98, 63 FR 5269
13.03 | Outdoor Burning Permit Fees | 6/20/94 | 2/2/98, 63 FR 5269

* * * * *

[FR Doc. 2014-23016 Filed 10-2-14; 8:45 am]

BILLING CODE 6560-50-P